DEPARTMENT OF COMMERCE

National Oceanic and Atmospheric Administration

[I.D. 082304C]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Scientific and Statistical Committee's (SSC) Socioeconomic Subcommittee, SSC Biological Assessment Subcommittee, the SSC, and a joint meeting of the SSC and the SSC Selection Committee. The Council will also hold a joint meeting of its Ecosystem-Based Management Committee and Habitat Committee, a joint meeting of its Shrimp Advisory Panel and Committee, Shrimp Committee, Snapper Grouper Committee, Standard Operation, Policy, and Procedure (SOPPs) Committee, Law Enforcement Committee, Mackerel Committee, and a joint Executive/Finance Committee meeting. In addition, there will be a meeting of the full Council.

DATES: The meeting will be held in September 2004. See SUPPLEMENTARY INFORMATION for specific dates and times.

ADDRESSES: The meeting will be held at Pawleys Plantation, 70 Tanglewood Drive, Pawleys Island, SC 29585; telephone: (1-800) 367-9959 or (843) 237-6100, fax: 843/237-6069.

Copies of documents are available from Kim Iverson, Public Information Officer, South Atlantic Fishery Management Council, One Southpark Circle, Suite 306, Charleston, SC 29407-4699.

FOR FURTHER INFORMATION CONTACT: Kim Iverson, Public Information Officer; telephone: 843-571-4366 or toll free at 866/SAFMC-10; fax: 843-769-4520; email: kim.iverson@safmc.net.

SUPPLEMENTARY INFORMATION:

Meeting Dates

1. SSC Socioeconomic Subcommittee and SSC Biological Assessment Subcommittee: September 19, 2004 (Concurrent Sessions)

Socioeconomic Subcommittee Meeting, 1 p.m. - 5 p.m.

The SSC Socioeconomic Subcommittee will meet to discuss the Deepwater (Snowy Grouper and Golden tilefish) Assessment, review and comment on the Southeast Data, Assessment, and Review (SEDAR) stock assessment process, and review and comment on data for ecosystem-based management.

Biological Assessment Subcommittee, 2 p.m. - 6 p.m.

The SSC Biological Assessment Subcommittee will meet to discuss the Deepwater (Snowy Grouper and Golden tilefish) Assessment, review and comment on the SEDAR stock assessment process, and discuss the results of the Gulf of Mexico Fishery Management Council's SSC review of the Mackerel Assessment.

2. Scientific and Statistical Committee Meeting: September 20, 2004, 8:30 a.m. - 3 p.m.

The SSC will meet to review the Subcommittee reports and develop recommendations on the Deepwater Assessment, SEDAR stock assessment process and data for ecosystem-based management. The SSC will also provide input regarding the Ecosystem-Based Management or Fishery Ecosystem Plan, Amendment 6 to the Shrimp Fishery Management Plan (FMP), and Amendment 13B to the Snapper Grouper FMP.

3. Joint SSC Selection Committee and SSC Meeting: September 20, 2004, 3 p.m. - 5 p.m.

The Committees will develop recommendations for expanding the role of the SSC.

4. Joint Ecosystem-Based Management and Habitat Committee Meeting: September 21, 2004, 8:30 a.m. - 12 noon

The Ecosystem-Based Management and Habitat Committees will meet jointly to review the draft Action Plan for Ecosystem-Based Management, receive a report on workshops, and develop directions to staff. There will also be an opportunity for public input on ecosystem-based management.

5. Joint Shrimp Advisory Panel and Committee Meeting: September 21, 2004, 1:30 p.m. - 5 p.m.

The Shrimp Advisory Panel (AP) will meet jointly with the Committee to review public comments received for Amendment 6 to the Shrimp FMP and the AP will develop recommendations for the Committee to consider. The AP will also provide input on ecosystem considerations in the Shrimp FMP and receive a presentation on the NOAA Fisheries Shrimp Business Plan.

6. Shrimp Committee Meeting: September 22, 2004, 8:30 a.m. - 12 noon

The Shrimp Committee will meet to develop Committee recommendations for Shrimp Amendment 6.

7. Snapper Grouper Committee Meeting: September 22, 2004, 1:30 p.m. -6 p.m. and September 23, 2004, 8:30 a.m. - 10 a.m.

The Snapper Grouper Committee will meet to discuss the structure and timing of Amendment 13B to the Snapper Grouper FMP and stock status determination criteria contained in the draft document. The Committee will also review preliminary analysis of management regarding size limits, bag limits, and other management measures.

8. SOPPs Committee Meeting: September 23, 2004, 10 a.m. - 11 a.m.

The SOPPs Committee will review the Council's Standard Operating, Policy and Procedures and modify as appropriate.

9. Law Enforcement Committee Meeting: September 23, 2004, 11 a.m. - 12 noon

The Law Enforcement Committee will receive a report on Vessel Monitoring Systems (VMS) and review the Oculina Bank Experimental Closed Area evaluation plan.

10. Mackerel Committee Meeting: September 23, 2004, 1:30 p.m. - 3 p.m.

The Mackerel Committee will review Amendment 15 to the Coastal Migratory Pelagics FMP and approve it for public hearing. The Committee will also discuss the results of the Gulf of Mexico Fishery Management Council's SSC review of the Mackerel Stock Assessment.

11. Joint Executive Committee and Finance Committee Meeting: September 23, 2004, 3 p.m. - 6 p.m.

The Committees will meet jointly to review the current Calendar Year (CY) 2004 budget, the status of the Fiscal Year (FY) 2005 budget, and receive a briefing on the national councils/NOAA Fisheries budget planning for FY 2007-2011. The Committees will develop timeline recommendations for CY 2005-2009 FMP/Amendment/Framework development and approve the grant budget for that time period. The Committees will also develop comments for proposed changes to National Standard 1.

12. Council Session: September 24, 2004, 8:30 a.m. - 4 p.m.

From 8:30 a.m. - 8:45 a.m., the Council will call the meeting order, make introductions and roll call, and adopt the meeting agenda.

From 8:45 a.m. - 9:15 a.m., the Council will elect its Chairman and Vice-Chairman.

From 9:15 a.m. - 10:15 a.m., the Council will receive a report from the Shrimp Committee and approve Amendment 6 to the Shrimp FMP for submission to the Secretary of Commerce. Note: A public comment period for Amendment 6 to the Shrimp FMP will be held at 9:15 a.m.

From 10:15 a.m. - 10:30 a.m., the Council will hear a report from the Snapper Grouper Committee and take action as appropriate.

From 10:30 a.m. - 10:45 a.m., the Council will hear a joint Executive/Finance Committee report and approve the CY 2005-09 FMP/Amendment/Framework timelines and grant budget, and National Standard 1 comments.

From 10:45 a.m. - 11 a.m., the Council will hear a report from the Mackerel Committee and approve Amendment 15 for public hearing.

From 11 a.m. - 11:15 a.m., the Council will hear a SOPPs Committee report and approve the SOPPs for submission to the Secretary of Commerce.

From 11:15 a.m. - 11:30 a.m., the Council will hear a report from the joint meeting of the Ecosystem-Based Management Committee and Habitat Committee.

From 11:30 a.m. - 11:45 a.m., the Council will hear a report from the SSC Selection Committee.

From 11:45 a.m. - 12 noon, the Council will hear a report from the Law Enforcement Committee.

From 1 p.m. - 1:30 p.m., the Council will received a briefing on litigation and other legal issues affecting the Council (CLOSED SESSION).

From 1:30 p.m. - 1:45 p.m., the Council will hear a report from the Information and Education Committee.

From 1:45 p.m. - 2:15 p.m., the Council will receive a report on NOAA Fisheries' Marine Recreational Fisheries Statistics Survey.

From 2:15 p.m. - 2:45 p.m., the Council will hear status reports from NOAA Fisheries.

From 2:45 p.m. - 3 p.m., the Council will hear agency and liaison reports, discuss other business and upcoming meetings.

Documents regarding these issues are available from the Council office (see ADDRESSES).

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by September 17, 2004.

Dated: August 31, 2004.
Bruce C. Morehead,
Acting Director, Office of Sustainable Fisheries, National Marine Fisheries Service.

[FR Doc. 04-20159 Filed 9-2-04; 8:45 am]

BILLING CODE 3510-22-S